DEPARTMENT OF DEFENSE

Department of the Army

Notice of Availability of a Record of Decision (ROD) for Base Closure and Realignment (BRAC) Actions at Fort Belvoir, VA

AGENCY: Department of the Army, DoD.

ACTION: Record of Decision.

SUMMARY: The Department of the Army announces the availability of a ROD which summarizes the decision for implementing realignment actions as directed by the BRAC Commission at Fort Belvoir, Virginia. The decision places 8,500 new employees at Fort Belvoir's Engineer Proving Ground; places 5,500 personnel on Fort Belvoir's Main Post, and defers a decision on 6,200 personnel.

ADDRESSES: To obtain a copy of the ROD please contact the Fort Belvoir Directorate of Public Works, 9430 Jackson Loop, Suite 100, Fort Belvoir, Virginia 22060-5116; e-mail address: environmental-fb-dpw@conus.army.mil.

FOR FURTHER INFORMATION CONTACT: Mr. Don Carr, Fort Belvoir Public Affairs Office, at (703) 805-2583 during normal business hours Monday through Friday.

SUPPLEMENTARY INFORMATION: The Army has decided to implement the Preferred Alternative (with exceptions noted below) identified in the Environmental Impact Statement (EIS) (June 2007), supporting studies, and comments provided during formal comment and review periods. The Preferred Alternative includes construction, renovation, and operation of proposed facilities to accommodate incoming military missions and activities at Fort Belvoir as mandated by the BRAC Commission's recommendations. The preferred alternative also includes an updated land use plan, a portion of the installation's Real Property Master Plan. To implement the BRAC Commission recommendations, Fort Belvoir will be receiving personnel, equipment, and missions from various closure and realignment actions within the Department of Defense. To implement the BRAC Commission recommendations, the Army will provide the necessary facilities, buildings, and infrastructure to accommodate personnel being realigned from the Washington Headquarters Services (WHS); National Geospatial-Intelligence Agency (NGA); various Army entities moving from leased space in the National Capital Region (NCR); U.S. Army Medical Command (MEDCOM); Program Executive Office, Enterprise Information Systems (PEO EIS); and Missile Defense Agency Headquarters Command Center (MDA HQCC). Details of the BRAC Commission's recommendations can be found at http://www.brac.gov. The No Action Alternative would not meet the Army's purpose and need for the Proposed Action as the BRAC realignment is required by Congress and needed for Army transformation to be effective.

Two elements of the EIS's Preferred Alternative were not selected for implementation in the ROD. First, no decision is being made at this time for siting of the WHS group, designated for the Engineer Proving Ground in the EIS. There will be a subsequent decision for this organization, following analysis of different alternatives. The ROD also does not include building of the Family Travel Camp on Fort Belvoir's Main Post.

Special consideration was given to the effect of the Preferred Alternative on natural resources, cultural resources, traffic and transportation, socioeconomic resources, and air quality. Many means to avoid or minimize environmental harm from the selected alternative have been adopted. Other mitigation measures identified in the EIS were not adopted, primarily because of a lack of funding. The Army will minimize effects on all environmental and socioeconomic resources by implementing the best management practices described in the EIS.

As determined in the EIS, implementing the Preferred Alternative will have short- and long-term significant adverse impacts on the transportation network at Fort Belvoir and its surrounding area. The ROD states that implementing the Preferred Alternative reflects a proper balance among initiatives for protection of the environment, appropriate mitigation, and actions to achieve the Army's requirements.

An electronic version of the ROD can be viewed or downloaded from the following Web site: http://www.hqda.army.mil/acsim/brac/nepa_eis_docs.htm.

Dated: August 7, 2007.
H.E. Wolfe,
Principal Deputy Assistant Secretary of the Army, (Environment, Safety and Occupational Health).

[FR Doc. 07-3911 Filed 8-9-07; 8:45 am]

BILLING CODE 3710-08-M